DEPARTMENT OF JUSTICE

Notice of Lodging of Partial Consent Decree Under the Comprehensive Environmental Response, Compensation, and Liability Act of 1980, as Amended

Consistent with Departmental policy, 28 CFR 50.7, 38 FR 19029, and 42 U.S.C. 9622(d), notice is hereby given that on February 7, 2002, a proposed Partial Consent Decree (“Decree”) in United States of America v. AlliedSignal Inc., et al., Civil Action No. 95-CV-0950-C(Sc), and United States of America v. Niagara Frontier Transportation Authority, Inc., et al., Civil Action No. 96-CV-0219C(Sc), was lodged with the United States District Court for the Western District of New York.

In these consolidated actions, the United States sought reimbursement of response costs incurred by the United States in connection with clean up activities at the Bern Metals and Universal Iron and Metals Superfund Sites located in the City of Buffalo, Erie County, New York, pursuant to Section 107 of the Comprehensive Environmental Response, Compensation, and Liability Act (“CERCLA”), 42 U.S.C. 9607. The Decree provides that the settling defendant, Consolidated Rail Corporation (“Conrail”), alleged to be liable under section 107(a)(2) of CERCLA as an owner of a portion of the Bern Metals Site, will deposit into an interest-bearing escrow account, within 30 days of receiving notice of lodging of the Decree, $300,000 in reimbursement of EPA's past response costs incurred at the Bern Metals Site. Within 20 days after receiving notice of entry of the Decree, Conrail shall withdraw and pay to the United States all principal and accrued interest from the designated escrow account.

The Department of Justice will receive, for a period of thirty (30) days from the date of this publication, comments relating to the Decree. Comments should be addressed to the Assistant Attorney General, Environmental and Natural Resources Division, P.O. Box 7611, U.S. Department of Justice, Washington, DC 20044-7611, and should refer to United States v. Allied Signal Inc., et al., D.J. Ref. No. 90-11-2-1147, and United States v. Niagara Frontier Transportation Authority, Inc., et al., D.J. Ref. No. 90-11-3-1571.

The Decree may be examined at the Office of the United States Attorney, Western District of New York, 138 Delaware Avenue, Buffalo, New York 14202, and at the U.S. Environmental Protection Agency, Region II, 290 Broadway, New York, New York 10007-1866. A copy of the Decree may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $5.50 (25 cents per page reproduction cost) payable to the U.S. Treasury.

Ronald Gluck,
Assistant Chief, Environmental Enforcement Section, Environment and Natural Resources Division.

[FR Doc. 02-6280 Filed 3-18-02; 8:45 am]

BILLING CODE 4410-15-M